DEPARTMENT OF LABOR

Bureau of Labor Statistics

Information Collection Activities; Comment Request

AGENCY: Bureau of Labor Statistics, Department of Labor.

ACTION: Notice of information collection; request for comment.

SUMMARY: The Department of Labor, as part of its continuing effort to reduce paperwork and respondent burden, conducts a pre-clearance consultation program to provide the general public and Federal agencies with an opportunity to comment on proposed and/or continuing collections of information in accordance with the Paperwork Reduction Act of 1995. This program helps to ensure that requested data can be provided in the desired format, reporting burden (time and financial resources) is minimized, collection instruments are clearly understood, and the impact of collection requirements on respondents can be properly assessed. The Bureau of Labor Statistics (BLS) is soliciting comments concerning the proposed revision of the “National Compensation Survey.” A copy of the proposed information collection request can be obtained by contacting the individual listed below in the Addresses section of this notice.

DATES: Written comments must be submitted to the office listed in the Addresses section of this notice on or before September 15, 2025.

ADDRESSES: Send comments to Nora Kincaid, BLS Clearance Officer, Division of Management Systems, Bureau of Labor Statistics, by email to BLS_PRA_Public@bls.gov.

FOR FURTHER INFORMATION CONTACT: Nora Kincaid, BLS Clearance Officer, at 202-691-7628 (this is not a toll free number.) (See Addresses section.)

SUPPLEMENTARY INFORMATION:

I. Background

The National Compensation Survey (NCS) is a nation-wide survey of private industry establishments and state and local governments that provides comprehensive measures of (1) employer costs for employee compensation, including wages and salaries, and benefits, (2) compensation trends, and (3) the incidence of employer-sponsored benefits among workers. The NCS also collects data and produces estimates on the provisions of selected employer-sponsored benefit plans. The NCS produces:

• Indexes measuring change over time in labor costs through the Employment Cost Index (ECI), a Principal Federal Economic Indicator (PFEI).

• The level of average costs per hour worked through the Employer Costs for Employee Compensation (ECEC).

• Estimates on the incidence of benefits by the percentage of workers with access to and participating in employer-sponsored benefit plans, as well as details of what those plans provide, in the publication of the Employee Benefits in the United States.

• Details of employer-provided health and retirement plan provisions in the Health and Retirement Plan Provision publications.

• Occupational wage data by work level for use by the President's Pay Agent, meeting the requirements of the Federal Employees Pay Comparability Act of 1990 (FEPCA). This data is produced in collaboration with the BLS' Occupational Employment and Wage Statistics (OEWS) program.

II. Current Action

Office of Management and Budget clearance is being sought for a revision of the NCS.

The NCS is designed to be a national representative survey of private industry and state and local government establishments from all 50 states and the District of Columbia. The NCS private industry sample is on a three-year rotational cycle, with one frozen sample year approximately every ten years for the NCS private industry sample when a new NCS State and local government sample is under collection.

The NCS collects occupational information and wage and benefit data from a sample of employers. Using probability sampling, the NCS selects up to eight jobs at an establishment and collects job information, including job duties and work level characteristics, and wages and benefit information. Benefit information includes the incidence, costs, and provisions of the employer-provided benefits. The BLS updates the wage and benefit cost data quarterly. Updating this information allows for the publication of change in the cost of wages, benefits, and total compensation on a quarterly basis as a measure of labor market inflation.

The NCS employs various methods to collect data from establishments. NCS policy is to collect the data in whichever form is easiest for the respondents to provide. Respondents may choose to send the data on forms that the BLS provides. The respondents may respond through email, fax, mail, telephone, or a secure BLS website.

The BLS is planning to eliminate several NCS data elements to reduce the annual costs and burden of the survey. The data elements are not considered to be heavily used or in public demand based on metrics from public database hits and customer service inquiries. The collection and review of these elements are resource intensive. The elements planned for removal capture:

• The presence of and plan details for sick leave carry over.

• The presence of retiree life.

• The presence of third-party plan administration and stop loss protection for health insurance.

• Employee non-medical premiums.

• Employer non-medical premiums when expenditures are collected or costs are unknown.

• Plan details for Defined Benefit Frozen Plans.

• The presence of Other Benefits plans or provisions of plans.

The BLS is planning to discontinue the collection of Worker's Compensation Insurance due to the BLS's inability to improve the currently low response rate for this benefit. Further response efforts could potentially lead to lower response rates for other benefits, which make up a larger proportion of total compensation.

The BLS is also planning a re-weight of the ECI to update employment counts as was done multiple times in the past.

III. Desired Focus of Comments

The Bureau of Labor Statistics is particularly interested in comments that:

• Evaluate whether the proposed collection of information is necessary for the proper performance of the functions of the agency, including whether the information will have practical utility.

• Evaluate the accuracy of the agency's estimate of the burden of the proposed collection of information, including the validity of the methodology and assumptions used.

• Enhance the quality, utility, and clarity of the information to be collected.

• Minimize the burden of the collection of information on those who are to respond, including through the use of appropriate automated, electronic, mechanical, or other technological collection techniques or other forms of information technology, e.g., permitting electronic submissions of responses.

Title of Collection: National Compensation Survey.

OMB Number: 1220-0164.

Type of Review: Revision of a currently approved collection.

Affected Public: Businesses or other for-profit; not-for-profit institutions; and State, local, and tribal governments.

Annual Number of Respondents: 17,194

All figures are based on a three-year average.

| Annual number of respondents | Average number of responses per year | Total annual responses | Average annual burden (minutes) | Estimated total burden (hours)
Totals | 17,194 | 3.1603 | 54,339 | 42.3917 | 38,392

Comments submitted in response to this notice will be summarized and/or included in the request for Office of Management and Budget approval of the information collection request; they also will become a matter of public record.

Signed on July 11, 2025.
Eric Molina,
Chief, Division of Management Systems, Branch of Policy Analysis.

[FR Doc. 2025-13287 Filed 7-15-25; 8:45 am]

BILLING CODE 4510-24-P